NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from March 27, 2008, to April 9, 2008. The last biweekly notice was published on April 8, 2008 (73 FR 19106).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Entergy Nuclear Vermont Yankee, LLC and Entergy Nuclear Operations, Inc., Docket No. 50-271, Vermont Yankee Nuclear Power Station, Vernon, Vermont

Date of amendment request: February 12, 2008.

Description of amendment request: The proposed amendment would revise the Technical Specification (TS) Sections 2.1, “Limiting Safety System Setting,” 3.1, “Reactor Protection System,” 3.2, “Protective Instrument Systems,” associated Surveillance Requirements, and other TS with similar requirements as these instrumentation TS sections.

Basis for proposed no significant hazards consideration determination: As required by 10 CFR 50.91(a), the licensee has provided its analysis of the issue of no significant hazards consideration which is presented below:

1. The operation of Vermont Yankee Nuclear Power Station in accordance with the proposed amendment will not involve a significant increase in the probability or consequences of an accident previously evaluated.

The proposed changes do not significantly affect the design or fundamental operation and maintenance of the plant. Accident initiators or the frequency of analyzed accident events are not significantly affected as a result of the proposed changes; therefore, there will be no significant change to the probabilities of accidents previously evaluated.

The proposed changes do not significantly alter assumptions or initial conditions relative to the mitigation of an accident previously evaluated. The proposed changes continue to ensure process variables, structures, systems, and components (SSCs) are maintained consistent with the safety analyses and licensing basis. The revised technical specifications continue to require that SSCs are properly maintained to ensure operability and performance of safety functions as assumed in the safety analyses. Since the design basis events analyzed in the safety analyses will not change significantly, the consequences of these events will not change as a result of the proposed changes to the TS.

Therefore, the proposed changes do not involve a significant increase in the probability or consequences of an accident previously evaluated.

2. The operation of Vermont Yankee Nuclear Power Station in accordance with the proposed amendment will not create the possibility of a new or different kind of accident from any accident previously evaluated.

The proposed changes do not involve any physical alteration of the plant (no new or different types of equipment being installed) and do not involve a change in the design, normal configuration or basic operation of the plant. The proposed changes do not introduce any new accident initiators. In some cases, the proposed changes impose different or more restrictive requirements; however, these new requirements are consistent with the assumptions in the safety analyses and current licensing basis. Where requirements are relocated to other licensee-controlled documents, adequate controls exist to ensure proper maintenance of the requirements and continued operability of the associated equipment.

The proposed changes do not involve significant changes in the fundamental methods governing normal plant operations and do not require unusual or uncommon operator actions. The proposed changes provide assurance that the plant will not be operated in a mode or condition that violates the essential assumptions or initial conditions in the safety analyses and that SSCs remain capable of performing the intended safety functions as assumed in the same analyses. Consequently, the response of the plant and the plant operator to postulated events will not be significantly different.

Therefore, the proposed TS change does not create the possibility of a new or different kind of accident from any previously evaluated.

3. The operation of Vermont Yankee Nuclear Power Station in accordance with the proposed amendment will not involve a significant reduction in a margin of safety.

Margin of safety is related to the confidence in the ability of the fission product barriers to perform their design functions during and following an accident situation. The proposed changes do not significantly affect any of the assumptions, initial conditions or inputs to the safety analyses. Plant design is unaffected by these proposed changes and will continue to provide adequate defense-in-depth and diversity of safety functions as assumed in the safety analyses; therefore no significant reduction in the margin of safety will result.

There are no proposed changes to the Safety Limits and only administrative and one more restrictive change to Limiting System Setting requirements. The proposed changes maintain requirements consistent with safety analyses assumptions and the licensing basis. Fission product barriers will continue to meet their design capabilities without any significant impact to their ability to maintain parameters within acceptable limits. The safety functions are maintained within acceptable limits without any significant decrease in capability.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 400 Hamilton Avenue, White Plains, NY 10601.

NRC Branch Chief: Mark G. Kowal.

FirstEnergy Nuclear Operating Company, et al., Docket No. 50-440, Perry Nuclear Power Plant, Unit No. 1, Lake County, Ohio

Date of amendment request: February 20, 2008.

Description of amendment request: The amendment request would revise the technical specifications (TSs) to adopt NRC-approved Revision 1 to TS Task Force (TSTF) Standard Technical Specification Change Traveler TSTF-476, “Improved Banked Position Withdrawal Sequence (BPWS) Control Rod Insertion Process (NEDO-33091).” The amendment would revise an applicability footnote in the TS Table 3.3.2.1-1, “Control Rod Block Instrumentation,” to permit use of an improved, optional BPWS reactor shutdown process. Corresponding changes are made to the Bases of TS 3.1.6, “Control Rod Pattern,” and the Bases of TS 3.3.2.1, to reference the new BPWS shutdown method.

The NRC staff issued a notice of opportunity for comment in the Federal Register on May 3, 2006 (71 FR 26118), on possible license amendments adopting TSTF-476 using the NRC's consolidated line item improvement process for amending licensee's TSs, which included a model safety evaluation (SE) and a model no significant hazards consideration (NSHC) determination. The NRC staff subsequently issued a notice of availability of the models for referencing in license amendment applications in the Federal Register on May 23, 2007 (72 FR 29004-29010), which included the resolution of public comments on the model SE. The May 23, 2007, notice of availability referenced the May 3, 2006, notice. The licensee has affirmed the applicability of the following NSHC determination in its application.

Basis for proposed no significant hazards consideration determination: As required by 10 CFR 50.91(a), an analysis of the issue of no significant hazards consideration is presented below:

Criterion 1—The Proposed Change Does Not Involve a Significant Increase in the Probability or Consequences of an Accident Previously Evaluated

The proposed changes modify the TS to allow the use of the improved banked position withdrawal sequence (BPWS) during shutdowns if the conditions of NEDO-33091-A, Revision 2, “Improved BPWS Control Rod Insertion Process,” July 2004, have been satisfied. The staff finds that the licensee's justifications to support the specific TS changes are consistent with the approved topical report and TSTF-476, Revision 1. Since the change only involves changes in control rod sequencing, the probability of an accident previously evaluated is not significantly increased, if at all. The consequences of an accident after adopting TSTF-476 are no different than the consequences of an accident prior to adopting TSTF-476. Therefore, the consequences of an accident previously evaluated are not significantly affected by this change. Therefore, this change does not involve a significant increase in the probability or consequences of an accident previously evaluated.

Criterion 2—The Proposed Change Does Not Create the Possibility of a New or Different Kind of Accident From any Previously Evaluated

The proposed change will not introduce new failure modes or effects and will not, in the absence of other unrelated failures, lead to an accident whose consequences exceed the consequences of accidents previously evaluated. The control rod drop accident (CRDA) is the design basis accident for the subject TS changes. This change does not create the possibility of a new or different kind of accident from an accident previously evaluated.

Criterion 3—The Proposed Change Does Not Involve a Significant Reduction in the Margin of Safety

The proposed change, TSTF-476, Revision 1, incorporates the improved BPWS, previously approved in NEDO-33091-A, into the improved TS. The control rod drop accident (CRDA) is the design basis accident for the subject TS changes. In order to minimize the impact of a CRDA, the BPWS process was developed to minimize control rod reactivity worth for BWR plants. The proposed improved BPWS further simplifies the control rod insertion process, and in order to evaluate it, the staff followed the guidelines of Standard Review Plan Section 15.4.9, and referred to General Design Criterion 28 of Appendix A to 10 CFR part 50 as its regulatory requirement. The TSTF stated the improved BPWS provides the following benefits: (1) Allows the plant to reach the all-rods-in condition prior to significant reactor cool down, which reduces the potential for re-criticality as the reactor cools down; (2) reduces the potential for an operator reactivity control error by reducing the total number of control rod manipulations; (3) minimizes the need for manual scrams during plant shutdowns, resulting in less wear on control rod drive (CRD) system components and CRD mechanisms; and (4) eliminates unnecessary control rod manipulations at low power, resulting in less wear on reactor manual control and CRD system components. The addition of procedural requirements and verifications specified in NEDO-33091-A, along with the proper use of the BPWS will prevent a control rod drop accident (CRDA) from occurring while power is below the low power setpoint (LPSP). The net change to the margin of safety is insignificant. Therefore, this change does not involve a significant reduction in a margin of safety.

The NRC staff proposes to determine that the amendment request involves no significant hazards consideration.

Attorney for licensee: David W. Jenkins, Attorney, FirstEnergy Corporation, Mail Stop A-GO-15, 76 South Main Street, Akron, OH 44308.

NRC Branch Chief: Russell Gibbs.

Nebraska Public Power District, Docket No. 50-298, Cooper Nuclear Station, Nemaha County, Nebraska

Date of amendment request: March 24, 2008.

Description of amendment request: The proposed amendment would revise Technical Specification (TS) Section 3.7.3, “Reactor Equipment Cooling (REC) System,” to allow credit for the ability to align the service water (SW) system to the REC system.

Basis for proposed no significant hazards consideration determination: As required by 10 CFR 50.91(a), the licensee has provided its analysis of the issue of no significant hazards consideration, which is presented below:

1. Do the proposed changes involve a significant increase in the probability or consequences of an accident previously evaluated?

Response: No.

Four design basis accidents have been previously evaluated at CNS [Cooper Nuclear Station]. These are (1) a control rod drop accident, in which a control rod inserted into the reactor core becomes uncoupled and drops out of the reactor core during operation; (2) a loss-of-coolant accident [LOCA], in which a pipe in the reactor coolant system breaks, resulting in a loss of reactor coolant inventory and the ability to cool the nuclear fuel; (3) a fuel handling accident, in which a fuel assembly is dropped during fuel handling operations and impacts fuel assemblies in the reactor core; and (4) a main steam line break accident, in which a main steam line breaks resulting in the discharge of steam at high pressure and temperature.

The proposed license amendment makes no changes to the design or operation of the control rod drive system. Thus, there is no increase in the probability of a control rod drop accident.

The proposed license amendment makes no changes to the design or operation of the reactor coolant system. Thus, there is no increase in the probability of a loss-of-coolant accident. (The design basis LOCA does not involve a postulated break in the systems associated with the proposed license amendment).

The proposed license amendment makes no changes to the design of the fuel handling system, or to the method of moving fuel. Thus, there is no increase in the probability of a fuel handling accident.

The proposed license amendment makes no changes to the design of the main steam system or to how the reactor is operated. Thus, there is no increase in the probability of a main steam line break accident.

Based on the above, the proposed changes do not result in a significant increase in the probability of an accident previously evaluated.

The SW System is able to supply sufficient cooling to perform the function of the REC System to remove the heat generated by the ECCS [emergency core cooling system] pumps, as well as providing sufficient cooling to the heat loads in the SW System. Aligning the SW System to the REC System sooner than the current seven days, as will be allowed by the proposed changes to the TS, will not adversely impact the ability of the ECCS pumps to meet their function.

Because the function of the REC System is to remove the heat generated by the ECCS pumps from the rooms in which the pumps are located, the REC system is indirectly involved in the mitigation of an accident.

Based on the above, the change does not involve a significant increase in the consequences of an accident previously evaluated.

NPPD [Nebraska Public Power District] concludes that the proposed changes do not involve a significant increase in the probability or consequences of an accident previously evaluated.

2. Do the proposed changes create the possibility of a new or different kind of accident from any accident previously evaluated?

Response: No.

The proposed license amendment would allow continued plant operation with leakage from the REC System in excess of limits, provided that the required cooling water can be supplied by the SW System. This involves revising the actions for mitigating a LOCA, in that the SW System may need to be aligned to the REC System sooner than 7 days following a LOCA, as is required by the current licensing basis. Allowing leakage from the REC System to exceed limits and requiring that the SW System be aligned to the REC System sooner than what is currently required by the licensing basis does not create the possibility of a new or different kind of accident from any previously evaluated.

The proposed license amendment request does not involve physical modification of any system in the plant, nor do they involve a change to how the plant is operated. No new equipment is being added. Use of the SW System to supply water to the REC System in the event of REC leakage is part of the current CNS design and licensing basis.

Based on the above NPPD concludes that these proposed changes do not create the possibility of a new or different kind of accident from any previously evaluated.

3. Do the proposed changes involve a significant reduction in a margin of safety?

Response: No.

This proposed license amendment would revise TS to allow continued plant operation with leakage from the REC System in excess of limits, provided that the SW System can be aligned to the REC System and supply the cooling water required by the REC System to meet its safety function. The safety function of the REC System is to remove the heat generated by the ECCS pumps from the rooms in which the pumps are located. This proposed change to TS revises the timing for taking an action involved in mitigating a LOCA, in that the SW System may need to be aligned to the REC System sooner than seven days following a LOCA, as currently allowed by license requirements. It has been demonstrated that this alignment can be made sooner than the current required seven days. Making this alignment sooner than seven days does not adversely impact the ability to mitigate a LOCA.

Based on the above, NPPD concludes that these proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Thomas G. Hiltz.

Virginia Electric and Power Company, Docket Nos. 50-338 and 50-339, North Anna Power Station, Units No. 1 and No. 2, Louisa County, Virginia

Date of amendment request: March 19, 2008.

Description of amendment request: The proposed amendment would delete the main control room/emergency switchgear room (MCR/ESGR) bottled air system from Technical Specifications. Operation of the bottled air system will be controlled by the Updated Final Safety Analysis Report.

Basis for proposed no significant hazards consideration determination: As required by 10 CFR 50.91(a), the licensee has provided its analysis of the issue of no significant hazards consideration, which is presented below:

1. Does the proposed license amendment involve a significant increase in the probability or consequences of an accident previously evaluated?

The proposed changes do not adversely affect accident initiators or precursors nor alter the design assumptions of the facility. The proposed changes do not alter or prevent the ability of structures, systems, and components (SSCs) from performing their required safety function of mitigating the consequences of an initiating event within the established acceptance limits. The proposed changes to the MCR/ESGR Bottled Air System and Emergency Ventilation System [EVS] do not affect the probability of an accident previously evaluated because the subject SSCs are not an initiator or precursor to any accident previously evaluated. The Technical Specifications changes noted above will ensure the SSCs are operable to mitigate the consequences of an accident.

Therefore, the proposed change does not involve a significant increase in the probability or consequences of an accident previously evaluated.

2. Does the proposed license amendment create the possibility of a new or different kind of accident from any accident previously evaluated?

Deletion of the MCR/ESGR Bottled Air System does not create the possibility of a new or different kind of accident. The other proposed changes do not alter the operability requirements of the MCR/ESGR emergency ventilation system or MCR/ESGR isolation. Therefore, the control room habitability systems remain operable to mitigate the consequences of a [design-basis accident] DBA. The changes do not involve a physical alteration of the plant systems credited in the accident analysis (i.e., no new or different type of equipment will be installed) or a significant change in the methods governing normal plant operation. The MCR/ESGR EVS is maintained in a standby mode and its operation does not generate any new accidents or accident precursors.

Therefore, this change does not create the possibility of a new or different kind of accident from any accident previously evaluated.

3. Does the proposed amendment involve a significant reduction in a margin of safety?

The proposed changes do not alter the manner in which safety limits, limiting safety system settings, or limiting conditions for operation are determined. The current dose analysis acceptance criteria are not affected by these changes. The proposed changes will not result in plant operation in a configuration outside the analyses or design basis. The proposed changes do not adversely affect systems that are required to respond for safe shutdown of the plant and to maintain the plant in a safe operating condition.

Therefore, this change does not involve a significant reduction in a margin of safety.

The Nuclear Regulatory Commission (NRC) staff has reviewed the licensee's analysis and, based on this review, it appears that the three standards of 10 CFR 50.92(c) are satisfied. Therefore, the NRC staff proposes to determine that the amendment request involves no significant hazards consideration.

Attorney for licensee: Lillian M. Cuoco, Esq., Senior Counsel, Dominion Resources Services, Inc., Millstone Power Station, Building 475, 5th Floor, Rope Ferry Road, Rt. 156, Waterford, Connecticut 06385.

NRC Branch Chief: Melanie C. Wong.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Duke Power Company LLC, Docket Nos. 50-413 and 50-414, Catawba Nuclear Station, Units 1 and 2, York County, South Carolina

Duke Power Company LLC, Docket Nos. 50-369 and 50-370, McGuire Nuclear Station, Units 1 and 2, Mecklenburg County, North Carolina

Date of amendment request: February 15, 2008.

Brief description of amendment request: The amendments authorized a change to the UFSAR requiring an inspection of each ice condenser within 24 hours of experiencing a seismic event greater than or equal to an operating basis earthquake within the five (5) week period after ice basket replenishment has been completed to confirm that adverse ice fallout has not occurred which could impede the ability of the ice condenser lower inlet doors to open. This action would be taken, in lieu of requiring a five week waiting period following ice basket replenishment, prior to beginning ascension to power operations.

Date of publication of individual notice in Federal Register: February 26, 2008 (73 FR 10302).

Expiration date of individual notice: April 28, 2008.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Energy Kewaunee, Inc. Docket No. 50-305, Kewaunee Power Station, Kewaunee County, Wisconsin

Date of application for amendment: June 12, 2007, as supplemented on December 12, 2007.

Brief description of amendment: The amendment revised the P-7 and P-10 nuclear instrumentation system permissive setpoints in Technical Specification (TS) Table 3.5-2, “Instrument Operation Conditions for Reactor Trip,” revised the Table format and added a footnote explaining that the turbine impulse pressure setting limit is converted to an equivalent turbine impulse pressure, and revised TS 2.3, “Instrumentation System,” concerning reactor trip interlocks to be consistent with the proposed changes to TS Table 3.5-2.

Date of issuance: March 28, 2008.

Effective date: As of the date of issuance and shall be implemented within 60 days.

Amendment No.: 195.

Facility Operating License No. DPR-43: Amendment revised the License and Technical Specifications.

Date of initial notice in Federal Register: August 28, 2007 (72 FR 49570)

The December 12, 2007, letter provided clarifying information that did not change the scope of the proposed amendment as described in the original notice of proposed action published in the Federal Register (72 FR 49570) and did not change the initial proposed no significant hazards determination.

The Commission's related evaluation of the amendment is contained in a Safety Evaluation dated March 28, 2008.

No significant hazards consideration comments received: No.

Dominion Energy Kewaunee, Inc. Docket No. 50-305, Kewaunee Power Station, Kewaunee County, Wisconsin

Date of application for amendment: September 24, 2007, as supplemented on January 18, 2008.

Brief description of amendment: The amendment revises the Technical Specifications (TSs) to add a reference to Dominion Topical Report DOM-NAF-5, “Application of Dominion Nuclear Core Design and Safety Analysis Methods to the Kewaunee Power Station (KPS),” to the list of approved analytical methods. The amendment permits the application of the Dominion nuclear core design and safety analysis methods, including the methodology to perform core thermal-hydraulic analysis to predict critical heat flux and departure from nucleate boiling ratio for the Westinghouse 422 V+ fuel design. In addition, the amendment: (1) Accommodates the use of the methodologies in DOM-NAF-5; (2) deletes one approved analytical method that will no longer be used; and (3) deletes date and revision numbers from the current TS list of approved analytical methods, consistent with TS Task Force (TSTF) Change Traveler TSTF-363-A, Revision 0, “Revise Topical Report References in ITS [improved TSs] 5.6.5, COLR [Core Operating Limits Report],” dated August 4, 2003, and adds a TS that requires complete identification of those analytical methods in the COLR.

Date of issuance: March 28, 2008.

Effective date: As of the date of issuance and shall be implemented within 60 days.

Amendment No.: 196.

Facility Operating License No. DPR-43: Amendment revised the Technical Specifications and the License.

Date of initial notice in Federal Register: October 23, 2007 (72 FR 60034). The January 18, 2008, supplement provided additional information that clarified the application, did not expand the scope of the application as originally noticed, and did not change the staff's original proposed no significant hazards consideration determination as published in the Federal Register.

The Commission's related evaluation of the amendment is contained in a Safety Evaluation dated March 28, 2008.

No significant hazards consideration comments received: No.

Dominion Energy Kewaunee, Inc. Docket No. 50-305, Kewaunee Power Station, Kewaunee County, Wisconsin

Date of application for amendment: March 17, 2006, as supplemented on April 17 and September 17, 2007, and February 1 and March 10, 2008.

Brief description of amendment: The amendment revised Appendix B, “Special Design Procedures,” of the Updated Safety Analysis Report (USAR) to modify the design criteria for internal flooding evaluations. The revisions included modifications to Section B.5, “Protection of Class I Items,” and Section B.11, “Internal Flooding.”

Date of issuance: March 28, 2008.

Effective date: As of the date of issuance and will be implemented by incorporating the revisions into the next update of the USAR, as required by 10 CFR 50.71(c).

Amendment No.: 197.

Facility Operating License No. DPR-43: Amendment revised the USAR and License.

Date of initial notice in Federal Register: April 25, 2006 (71 FR 23954). The letters dated April 17 and September 17, 2007, and February 1 and March 10, 2008, provided clarifying information that did not change the scope of the proposed amendment as described in the original notice of proposed action published in the Federal Register and did not change the initial proposed no significant hazards determination.

The Commission's related evaluation of the amendment is contained in a Safety Evaluation dated March 28, 2008.

No significant hazards consideration comments received: No.

Dominion Nuclear Connecticut, Inc., Docket No. 50-336, Millstone Power Station, Unit No. 2, New London County, Connecticut

Date of application for amendment: March 28, 2007, as supplemented by letter dated March 10, 2008.

Brief description of amendment: The amendment modifies the Technical Specification Surveillance Requirement 4.6.2.1.1.e to allow performance of testing for nozzle blockage to be based on the occurrence of activities that could potentially result in nozzle blockage rather than a fixed periodic basis.

Date of issuance: March 31, 2008.

Effective date: As of the date of issuance and shall be implemented within 60 days from the date of issuance.

Amendment No.: 303.

Renewed Facility Operating License No. DPR-65: Amendment revised the License and Technical Specifications.

Date of initial notice in Federal Register: January 15, 2008 (73 FR 2549). The March 10, 2008, supplement, contained clarifying information and did not change the NRC staff's initial proposed finding of no significant hazards consideration.

The Commission's related evaluation of the amendment is contained in a Safety Evaluation dated March 31, 2008.

No significant hazards consideration comments received: No.

Duke Energy Carolinas, LLC Docket Nos. 50-369 and 50-370, McGuire Nuclear Station, Units 1 and 2, Mecklenburg County, North Carolina

Date of application for amendments: February 15, 2008.

Brief description of amendments: The amendments would authorize a change to the Updated Final Safety Analysis Report (UFSAR) requiring an inspection of each ice condenser unit within 24 hours of experiencing a seismic event greater than or equal to an operating basis earthquake within the 5-week period after ice basket replenishment has been completed to confirm that adverse ice fallout has not occurred which could impede the ability of the ice condenser lower inlet doors to open. This action would be taken, in lieu of requiring a 5-week waiting period following ice basket replenishment, prior to beginning ascension to power operations.

Date of issuance: April 2, 2008.

Effective date: As of the date of issuance and shall be implemented within 30 days from the date of issuance.

Amendment Nos.: 246, 226.

Renewed Facility Operating License Nos. NPF-9 and NPF-17: Amendments revised the licenses.

Date of initial notice in Federal Register: February 26, 2008 (73 FR 10302). The Commission's related evaluation of the amendments is contained in a Safety Evaluation dated April 2, 2008.

No significant hazards consideration comments received: No.

Duke Power Company LLC, et al., Docket Nos. 50-413 and 50-414, Catawba Nuclear Station, Units 1 and 2, York County, South Carolina

Duke Power Company LLC, Docket Nos. 50-369 and 50-370, McGuire Nuclear Station, Units 1 and 2, Mecklenburg County, North Carolina

Duke Power Company LLC, Docket Nos. 50-269, 50-270, and 50-287, Oconee Nuclear Station, Units 1, 2, and 3, Oconee County, South Carolina

Oconee Nuclear Station Independent Spent Fuel Storage Installation License No. SNM-2503, Docket No. 72-4, Oconee County, South Carolina

Date of application for amendments: March 14, 2007.

Brief description of amendments: The amendments would revise the licenses to reflect the change in the name of the licensee from Duke Power Company LLC to Duke Energy Carolinas, LLC. The proposed amendments are a name change only. There is no change in the state of incorporation, registered agent, registered office, rights, or liabilities of the company. Nor is there a change in the function of the licensee or the way in which it does business.

Date of issuance: March 28, 2008.

Effective date: As of the date of issuance and shall be implemented within 30 days from the date of issuance.

Amendment Nos.: 240, 234.

Renewed Facility Operating License Nos. NPF-35 and NPF-52: Amendments revised the licenses.

Amendment Nos.: 245, 225.

Renewed Facility Operating License Nos. NPF-9 and NPF-17: Amendments revised the licenses.

Amendment Nos.: 361, 363, 362.

Renewed Facility Operating License Nos. DPR-38, DPR-47, and DPR-55: Amendments revised the licenses.

Amendment No.: 9.

Independent Spent Fuel Storage Installation License No. SNM-2503: Amendment revised the license.

Date of initial notice in Federal Register: December 4, 2007 (72 FR 68210).

The Commission's related evaluation of the amendments is contained in a Safety Evaluation dated March 28, 2008.

No significant hazards consideration comments received: No.

Entergy Operations, Inc., Docket No. 50-368, Arkansas Nuclear One, Unit No. 2, Pope County, Arkansas

Date of application for amendment: July 31, 2007, as supplemented by letters dated July 31, 2007, and March 11, 2008.

Brief description of amendment: The proposed changes revised Technical Specification 6.6.5, “Core Operating Limits Report (COLR),” which would add new analytical methods to support the implementation of Next Generation Fuel.

Date of issuance: March 26, 2008.

Effective date: As of the date of issuance and shall be implemented prior to startup following the spring 2008 refueling outage.

Amendment No.: 276.

Renewed Facility Operating License No. NPF-6: Amendment revised the Technical Specifications, Facility Operating License, and the Final Safety Analysis Report.

Date of initial notice in Federal Register: August 28, 2007 (72 FR 49576). The supplemental letters dated July 31, 2007, and March 11, 2008, provided additional information that clarified the application, did not expand the scope of the application as originally noticed, and did not change the staff's original proposed no significant hazards consideration determination as published in the Federal Register The Commission's related evaluation of the amendment is contained in a Safety Evaluation dated March 26, 2008.

No significant hazards consideration comments received: No.

Entergy Operations, Inc., Docket No. 50-368, Arkansas Nuclear One, Unit No. 2, Pope County, Arkansas

Date of application for amendment: April 24, 2007.

Brief description of amendment: The amendment revised Technical Specification (TS) 5.2.1, “Fuel Assemblies,” to add Optimized ZIRLO™ as an acceptable fuel rod cladding material.

Date of issuance: March 26, 2008.

Effective date: As of the date of issuance and shall be implemented within 60 days from the date of issuance.

Amendment No.: 277.

Renewed Facility Operating License No. NPF-6: Amendment revised the Technical Specifications/license.

Date of initial notice in Federal Register: June 5, 2007 (72 FR 31099). The Commission's related evaluation of the amendment is contained in a Safety Evaluation dated March 26, 2008.

No significant hazards consideration comments received: No.

Entergy Operations, Inc., Docket No. 50-368, Arkansas Nuclear One, Unit No. 2, Pope County, Arkansas

Date of application for amendment: October 5, 2007, as supplemented by letter dated February 19, 2008.

Brief description of amendment: The amendment revised the Technical Specifications (TS) 3.6.2.2, “Containment Sump Buffering Agent Trisodium Phosphate (TSP)” and its associated Surveillance Requirement 4.6.2.2 to replace references to TSP with the sodium tetraborate (NaTB) buffering agent. The required volume of NaTB has also been changed to reflect the new buffer. In addition, the title has been changed to remove the reference to TSP.

Date of issuance: March 31, 2008.

Effective date: As of the date of issuance and shall be implemented following completion of the 2R19 refueling outage in spring 2008.

Amendment No.: 278.

Renewed Facility Operating License No. NPF-6: Amendment revised the Technical Specifications/license.

Date of initial notice in Federal Register: November 6, 2007 (72 FR 62688). The supplemental letter dated February 19, 2008, provided additional information that clarified the application, did not expand the scope of the application as originally noticed, and did not change the staff's original proposed no significant hazards consideration determination as published in the Federal Register. The Commission's related evaluation of the amendment is contained in a Safety Evaluation dated March 31, 2008.

No significant hazards consideration comments received: No.

Entergy Operations, Inc., Docket No. 50-313, Arkansas Nuclear One, Unit No. 1, Pope County, Arkansas

Date of amendment request: October 22, 2007.

Brief description of amendment: The amendment revised Technical Specification (TS) Limiting Condition for Operation (LCO) 3.0.4 and Surveillance Requirement 4.0.4 to adopt the provisions of Industry/TS Task Force (TSTF) change TSTF-359, “Increased Flexibility in Mode Restraints.” This operating license improvement was made available by the U.S. Nuclear Regulatory Commission on April 4, 2003, as part of the consolidated line item improvement process.

Date of issuance: April 2, 2008.

Effective date: As of the date of issuance and shall be implemented within 60 days from the date of issuance.

Amendment No.: Unit 1—232.

Renewed Facility Operating License No. DPR-51: Amendment revised the Technical Specifications/license.

Date of initial notice in Federal Register: December 18, 2007 (72 FR 71709). The Commission's related evaluation of the amendment is contained in a Safety Evaluation dated April 2, 2008.

No significant hazards consideration comments received: No.

Entergy Operations, Inc., Docket No. 50-368, Arkansas Nuclear One, Unit No. 2, Pope County, Arkansas

Date of application for amendment: May 8, 2007, as supplemented by letter dated March 28, 2008.

Brief description of amendment: The amendment modified the Arkansas Nuclear One, Unit 2, Technical Specification 3.1.1.4, “Moderator Temperature Coefficient (MTC).” Specifically, the change modified the surveillance frequency to be based on effective full power days instead of boron concentration.

Date of issuance: March 31, 2008.

Effective date: As of the date of issuance and shall be implemented within 60 days from the date of issuance.

Amendment No.: 279.

Renewed Facility Operating License No. NPF-6: Amendment revised the Technical Specifications/license.

Date of initial notice in Federal Register: June 5, 2007 (72 FR 31099). The supplemental letter dated March 28, 2008, provided additional information that clarified the application, did not expand the scope of the application as originally noticed, and did not change the staff's original proposed no significant hazards consideration determination as published in the Federal Register. The Commission's related evaluation of the amendment is contained in a Safety Evaluation dated March 31, 2008.

No significant hazards consideration comments received: No.

Exelon Generation Company, LLC, Docket Nos. STN 50-456 and STN 50-457, Braidwood Station (Braidwood), Units 1 and 2, Will County, Illinois

Date of application for amendment: April 4, 2007, as supplemented by letters dated October 10, 2007, January 31, and February 26, 2008.

Brief description of amendment: The amendments revise Technical Specification 5.5.16, “Containment Leakage Rate Testing Program,” to reflect a one-time, 5-year extension of the current containment Type A test (containment integrated leakage rate test (ILRT)) interval requirement, under Title 10 of the Code of Federal Regulations, Part 50, Appendix J, Option B, from 10 years to 15 years. The amendments allow the next Type A ILRT to be performed within 15 years of the most recent Type A test at Braidwood, but no later than October 5, 2013, for Unit 1, and no later than May 4, 2014, for Unit 2.

Date of issuance: April 2, 2008.

Effective date: As of the date of issuance and shall be implemented within 30 days.

Amendment Nos.: Unit 1-149; Unit 2-149.

Facility Operating License Nos. NPF-72 and NPF-77: The amendment revised the Technical Specifications and License.

Date of initial notice in Federal Register: June 5, 2007 (72 FR 31100). The October 10, 2007, January 31, and February 26, 2008, supplemental letters contained clarifying information and did not change the NRC staff's original proposed no significant hazards consideration. The Commission's related evaluation of the amendments is contained in a Safety Evaluation dated April 2, 2008.

No significant hazards consideration comments received: No.

FirstEnergy Nuclear Operating Company, et al., Docket No. 50-412, Beaver Valley Power Station, Unit No. 2, Beaver County, Pennsylvania.

Date of application for amendment: June 14, 2006, as supplemented by letters dated July 20, July 26, December 21, 2007, and March 11, 2008.

Brief description of amendment: The amendment will revise Technical Specifications (TSs) to incorporate the results of a new spent fuel pool (SFP) criticality analysis documented in WCAP-16518-P, “Beaver Valley Unit 2 Spent Fuel Pool Criticality Analysis,” Revision 2 for BVPS-2. The new criticality analysis will permit utilization of vacant storage locations dictated by the existing TS storage configurations in the BVPS-2 SFP.

Date of issuance: March 27, 2008.

Effective date: As of the date of issuance, and shall be implemented within 30 days.

Effective date: As of the date of issuance, and shall be implemented within 30 days.

Amendment No: 165.

Facility Operating License No. NPF-73. Amendment revised the License and TS.

Date of initial notice in Federal Register: August 15, 2006 (71 FR 46935). The supplements dated July 20, July 26, December 21, 2007, and March 11, 2008, provided additional information that clarified the application, did not expand the scope of the application as originally noticed, and did not change the Nuclear Regulatory Commission (NRC) staff(s original proposed no significant hazards consideration determination as published in the Federal Register.

The Commission's related evaluation of the amendment is contained in a Safety Evaluation dated March 27, 2008.

No significant hazards consideration comments received: No.

FPL Energy Seabrook, LLC, Docket No. 50-443, Seabrook Station, Unit No. 1, Rockingham County, New Hampshire

Date of amendment request: March 29, 2007, as supplemented by letter dated January 9, 2008.

Description of amendment request: The amendment revises the Seabrook Station, Unit No 1, Technical Specifications to increase the power level required for a reactor trip following a turbine trip (P-9 setpoint).

Date of issuance: March 27, 2008.

Effective date: As of its date of issuance, and shall be implemented within 90 days.

Amendment No.: 117.

Facility Operating License No. NPF-86: The amendment revised the License and Technical Specifications.

Date of initial notice in Federal Register: July 31, 2007 (72 FR 41785). The licensee's January 9, 2008, supplement provided clarifying information that did not change the scope of the proposed amendment as described in the original notice of proposed action published in the Federal Register, and did not change the initial proposed no significant hazards consideration determination.

The Commission's related evaluation of the amendment is contained in a Safety Evaluation dated March 27, 2008.

No significant hazards consideration comments received: No.

Luminant Generation Company LLC, Docket Nos. 50-445 and 50-446, Comanche Peak Steam Electric Station, Unit Nos. 1 and 2, Somervell County, Texas

Date of amendment request: April 10, 2007, as supplemented by letters dated July 31, August 16, November 15 (two letters), and November 19, 2007, and February 11, March 6, March 13, and March 26, 2008.

Brief description of amendments: The amendments revised Technical Specification (TS) 3.1, “Reactivity Control Systems,” TS 3.2, “Power Distribution Limits,” TS 3.3, “Instrumentation,” and TS 5.6.5b, “Core Operating Limits Report (COLR),” to incorporate standard Westinghouse-developed and NRC-approved analytical methods into the list of methodologies used to establish the core operating limits.

Date of issuance: April 2, 2008.

Effective date: As of the date of issuance and shall be implemented prior to startup from refueling outage 10 for Comanche Peak Steam Electric Station, Unit 2.

Amendment Nos.: Unit 1—144; Unit 2—144.

Facility Operating License Nos. NPF-87 and NPF-89: The amendments revised the Facility Operating Licenses and Technical Specifications.

Date of initial notice in Federal Register: August 14, 2007 (72 FR 45461). The supplemental letters dated July 31, August 16, November 15 (two letters), and November 19, 2007, and February 11, March 6, March 13, and March 26, 2008, provided additional information that clarified the application, did not expand the scope of the application as originally noticed, and did not change the staff's original proposed no significant hazards consideration determination as published in the Federal Register on August 14, 2007 (72 FR 45461). The Commission's related evaluation of the amendments is contained in a Safety Evaluation dated April 2, 2008.

No significant hazards consideration comments received: No.

Luminant Generation Company LLC, Docket Nos. 50-445 and 50-446, Comanche Peak Steam Electric Station, Unit Nos. 1 and 2, Somervell County, Texas

Date of amendment request: August 16, 2007, as supplemented by letter dated December 13, 2007.

Brief description of amendments: The amendments revised Technical Specification (TS) 3.1.4, “Rod Group Alignment Limits,” Table 3.3.1-1, “Reactor Trip System Instrumentation,” Table 3.3.2-1, “Engineered Safety Feature Actuation System Instrumentation,” TS 3.4.10, “Pressurizer Safety Valves,” TS 3.7.1, “Main Steam Safety Valves (MSSVs),” and Table 3.7.1-1, “Operable Main Steam Safety Valves Versus Maximum Allowable Power.” The change to the TS is to reflect cycle-specific safety analysis assumptions and the results associated with the adoption of Westinghouse accident analyses methodologies.

Date of issuance: April 3, 2008.

Effective date: As of the date of issuance and shall be implemented prior to startup from the fall 2008 refueling outage for Unit 1, and prior to startup from the spring 2008 refueling outage for Unit 2.

Amendment Nos.: Unit 1—145; Unit 2—145.

Facility Operating License Nos. NPF-87 and NPF-89: The amendments revised the Facility Operating Licenses and Technical Specifications.

Date of initial notice in Federal Register: September 25, 2007 (72 FR 54482). The supplemental letter dated December 13, 2007, provided additional information that clarified the application, did not expand the scope of the application as originally noticed, and did not change the staff's original proposed no significant hazards consideration determination as published in the Federal Register on September 25, 2007 (72 FR 54482). The Commission's related evaluation of the amendments is contained in a Safety Evaluation dated April 3, 2008

No significant hazards consideration comments received: No.

National Aeronautics and Space Administration, Docket Nos. 50-30 and 50-185, Plum Brook Reactor Facility, Sandusky, Ohio (TAC NOS. J60622 and J60626)

Date of application for amendments: February 9, 2007.

Brief description of amendments: The amendments to facility licenses include revisions to the Technical Specifications, and incorporates Final Status Survey Plan (Revision 1). The same Technical Specifications apply equally to both licenses.

Date of issuance: March 24, 2008.

Effective date: As of the date of issuance.

Amendment Nos.: 13 and 9.

Facility License Nos. TR-3 and R-93: The amendments revise the facility licenses.

Date of initial notice in Federal Register: August 20, 2007 (72 FR 46521).

The Commission's related evaluation of the amendment is contained in a Safety Evaluation enclosed with the amendment dated March 24, 2008.

No significant hazards consideration comments received: No.

Nine Mile Point Nuclear Station, LLC, Docket No. 50-410, Nine Mile Point Nuclear Station, Unit No. 2 (NMP2), Oswego County, New York

Date of application for amendment: October 22, 2007.

Brief description of amendment: The amendment revises the NMP2 Technical Specifications (TSs) by deleting the requirements related to the hydrogen recombiners and hydrogen and oxygen monitors. A notice of availability for this TS improvement using the consolidated line item improvement process was published in the Federal Register on September 25, 2003 (68 FR 55416). In addition, the amendment revises Operating License No. NPF-69 by deleting paragraph 2.C.(11a) from the operating license, and retaining the current licensing basis hydrogen monitoring requirements in the NMP2 Updated Final Safety Analysis Report.

Date of issuance: April 8, 2008.

Effective date: As of the date of issuance to be implemented within 60 days.

Amendment No.: 124.

Renewed Facility Operating License No. NPF-69: Amendment revises the License and Technical Specifications.

Date of initial notice in Federal Register: December 4, 2007 (72 FR 68217). The Commission's related evaluation of the amendment is contained in a Safety Evaluation dated April 8, 2008.

No significant hazards consideration comments received: No.

Omaha Public Power District, Docket No. 50-285, Fort Calhoun Station, Unit No. 1, Washington County, Nebraska

Date of amendment request: September 11, 2007.

Brief description of amendment: The amendment removed the footnote to Technical Specification (TS) 2.3(4), “Containment Sump Buffering Agent Specification and Volume Requirement,” and TS 3.6(2)d, “Surveillance Requirements,” limiting the applicability of those specifications to operating cycle 24. Additionally, TS 2.3, figure 2-3 was revised to increase the volume of sodium tetraborate due to the selection of a different chemical vendor and an increase in mass to provide additional pH margin.

Date of issuance: March 25, 2008.

Effective date: The license amendment is effective as of its date of issuance and shall be implemented prior to plant startup from the 2008 refueling outage.

Amendment No.: 253.

Renewed Facility Operating License No. DPR-40: The amendment revised the Technical Specifications.

Date of initial notice in Federal Register: October 9, 2007 (72 CFR 57356). The Commission's related evaluation of the amendment is contained in a safety evaluation dated March 25, 2008.

No significant hazards consideration comments received: No.

Omaha Public Power District, Docket No. 50-285, Fort Calhoun Station, Unit No. 1, Washington County, Nebraska

Date of amendment request: October 5, 2007.

Brief description of amendment: The amendment revised emergency diesel generator (DG) surveillance testing in Technical Specification (TS) 3.7, “Emergency Power Systems,” to support modification of the DG start circuitry. Currently, TS 3.7 requires the licensee to verify the anticipatory DG start-to-idle speed upon a reactor trip. This amendment deletes the anticipatory DG starting requirement. The amendment also deletes the footnote in TS 3.7.(1)e. that pertains to a one-time extension of surveillance interval for DG-1 that was granted in Amendment No. 112 to the Renewed Facility Operating License.

Date of issuance: March 26, 2008.

Effective date: As of its date of issuance and prior to startup from the 2008 refueling outage.

Amendment No.: 254.

Renewed Facility Operating License No. DPR-40: The amendment revised the Technical Specifications.

Date of initial notice in Federal Register: November 20, 2007 (72 FR 65369). The Commission's related evaluation of the amendment is contained in a safety evaluation dated March 26, 2008.

No significant hazards consideration comments received: No.

Southern Nuclear Operating Company, Inc., Docket Nos. 50-424 and 50-425, Vogtle Electric Generating Plant, Units 1 and 2, Burke County, Georgia

Date of application for amendments: February 13, 2008, as supplemented on March 21, and April 3, 2008.

Brief description of amendments: The amendments proposed a one-time steam generator (SG) tubing eddy current inspection interval revision to the Vogtle Electric Generating Plant, Units 1 and 2 (Vogtle 1 and 2) Technical Specifications (TSs) 5.5.9, “Steam Generator (SG) Program,” to incorporate an interim alternate repair criterion in the provisions for SG tube repair criteria during the Vogtle 1 inspection performed in Refueling Outage 14 and subsequent operating cycle, and during the Vogtle 2 inspection performed in Refueling Outage 13 and subsequent 18-month SG tubing eddy current inspection interval and subsequent 36-month SG tubing eddy current inspection interval. The amendments also revised TS 5.6.10, “Steam Generator Tube Inspection Report,” where three new reporting requirements are proposed to be added to the existing seven requirements.

Date of issuance: April 9, 2008.

Effective date: As of the date of issuance and shall be implemented within 30 days from the date of issuance April 9, 2008.

Amendment Nos.: 150 and 130.

Facility Operating License Nos. NPF-68 and NPF-81: Amendments revised the licenses and the technical specifications.

Date of initial notice in Federal Register: February 26, 2008 (73 FR 10305) The supplements dated March 21, and April 3, 2008, provided additional information that clarified the application, did not expand the scope of the application as originally noticed, and did not change the staff's original proposed no significant hazards consideration determination. The Commission's related evaluation of the amendments is contained in a Safety Evaluation dated April 9, 2008.

No significant hazards consideration comments received: No.

Tennessee Valley Authority, Docket No. 50-328, Sequoyah Nuclear Plant, Unit 2, Hamilton County, Tennessee

Date of application for amendment: January 12, 2007, as supplemented by letters dated January 8 and February 8, 2008.

Brief description of amendment: A Change to the Unit 2 Technical Specifications (TS) to include a Steam Generator SG voltage-based repair criteria probability of detection method using plant specific SG tube inspection results. The revised method is referred to as the Probability of Prior Cycle Detection method.

Date of issuance: March 24, 2008.

Effective date: As of the date of issuance and shall be implemented within 45 days.

Amendment No.: 309.

Facility Operating License No. DPR-79: Amendment revises the technical specifications.

Date of initial notice in Federal Register: March 13, 2007 (72 FR 11395). The supplemental letters dated January 8 and February 8, 2008, provided additional information that clarified the application, did not expand the scope of the application as originally noticed, and did not change the staff's original proposed no significant hazards consideration determination as published in the Federal Register. The Commission's related evaluation of the amendment is contained in a Safety Evaluation dated March 24, 2008.

No significant hazards consideration comments received: No.

Tennessee Valley Authority, Docket Nos. 50-327 and 50-328, Sequoyah Nuclear Plant, Units 1 and 2, Hamilton County, Tennessee

Date of application for amendments: April 5, 2007.

Brief description of amendments: The technical specifications change will revise the surveillance frequency for the turbine trip functions of the reactor trip system instrumentation.

Date of issuance: April 2, 2008.

Effective date: As of the date of issuance and shall be implemented within 45 days.

Amendment Nos.: 318 and 310.

Facility Operating License Nos. DPR-77 and DPR-79: Amendments revised the technical specifications.

Date of initial notice in Federal Register: May 22, 2007 (72 FR 28723).

The Commission's related evaluation of the amendments is contained in a safety evaluation dated April 2, 2008.

No significant hazards consideration comments received: No.

Wolf Creek Nuclear Operating Corporation, Docket No. 50-482, Wolf Creek Generating Station, Coffey County, Kansas

Date of amendment request: March 14, 2007, as supplemented by letters dated December 18, 2007, and February 26, 2008.

Brief description of amendment: The amendment revised Technical Specification (TS) 3.3.2, “Engineered Safety Features Actuation System (ESFAS) Instrumentation,” and TS 3.7.3, “Main Feedwater Isolation Valves (MFIVs),” by the addition of the main feedwater regulating valves (MFRVs), and associated MFRV bypass valves, to TS 3.7.3 and to TS Table 3.3.2-1, and changed page numbers in the TS Table of Contents. The application has one last proposed change to the plant, which is the proposed modification of the Main Steam Feedwater Isolation System controls. This will be addressed later in a future letter.

Date of issuance: April 3, 2008.

Effective date: Effective as of its date of issuance and shall be implemented before entry into Mode 3 in the restart from the spring 2008 refueling outage.

Amendment No.: 177.

Facility Operating License No. NPF-42. The amendment revised the Operating License and Technical Specifications.

Date of initial notice in Federal Register: June 19, 2007 (72 FR 33785). The supplemental letters dated December 18, 2007, and February 26, 2008, provided additional information that clarified the proposed changes in the application, did not expand the scope of the application as originally noticed, and did not change the NRC staff's original proposed no significant hazards consideration determination published in the Federal Register.

The Commission's related evaluation of the amendment is contained in a Safety Evaluation dated April 3, 2008.

No significant hazards consideration comments received: No.

Wolf Creek Nuclear Operating Corporation, Docket No. 50-482, Wolf Creek Generating Station, Coffey County, Kansas

Date of amendment request: February 8, 2008, as supplemented by letters dated March 21 and 30, 2008.

Brief description of amendment: The amendment revised Technical Specification (TS) 5.5.9, “Steam Generator (SG) Program,” and TS 5.6.10, “Steam Generator Tube Inspection Report.” For TS 5.5.9, the amendment would replace the existing alternate repair criteria (ARC) in TS 5.5.9.c.1 for SG tube inspections that was approved in Amendment No. 169 issued October 10, 2006, for refueling outage 15 (the outage for the fall of 2006) and the subsequent operating cycle. The new interim ARC would be for the upcoming refueling outage 16 (the outage for the spring of 2008) and the subsequent 18-month operating cycle, and would apply to service-induced crack-like flaws found below 17 inches from the top of the tubesheet. For TS 5.6.10, three new reporting requirements are added to the existing seven requirements.

Date of issuance: April 4, 2008.

Effective date: Effective as of its date of issuance and shall be implemented prior to the entry into Mode 4 during the startup from refueling outage 16 in the spring of 2008.

Amendment No.: 178.

Facility Operating License No. NPF-42. The amendment revised the Operating License and Technical Specifications.

Date of initial notice in Federal Register: February 21, 2008 (73 FR 9602). The supplemental letters dated March 21 and 30, 2008, provided additional information that clarified the application, did not expand the scope of the application as originally noticed, and did not change the staff's original proposed no significant hazards consideration determination as published in the Federal Register.

The Commission's related evaluation of the amendment is contained in a Safety Evaluation dated April 4, 2008.

No significant hazards consideration comments received: No.

Dated at Rockville, Maryland, this 14th day of April 2008.
For The Nuclear Regulatory Commission.
Catherine Haney,
Director, Division of Operating Reactor Licensing, Office of Nuclear Reactor Regulation.

[FR Doc. E8-8388 Filed 4-21-08; 8:45 am]

BILLING CODE 7590-01-P